ENVIRONMENTAL PROTECTION AGENCY

[Docket # OW-2003-0064-; FRL-7897-3]

National Clean Water Act Recognition Awards: Availability of Application and Nomination Information

AGENCY: Environmental Protection Agency.

ACTION: Notice.

SUMMARY: This notice announces the availability of nomination and application information for the U.S. EPA's 2005 Clean Water Act Recognition Awards. The awards recognize municipalities and industries for outstanding and innovative technological achievements in wastewater treatment and pollution abatement programs. Recognition is made for outstanding and noteworthy projects or programs in the following categories: operations and maintenance (O&M) at publicly-owned wastewater treatment facilities; biosolids management; pretreatment programs; storm water management; and combined sewer overflow (CSO) controls. The awards are intended to educate the public about the contributions wastewater treatment facilities make to clean water; to encourage public support for municipal and industrial efforts in effective wastewater management, biosolids management, and wet weather pollution control; and, to recognize communities and industries that use innovative practices to meet CWA permitting requirements. Applicants must be in compliance with all applicable CWA requirements, or otherwise have a satisfactory record with respect to environmental quality.

DATES: Nomination and application deadline dates are available through EPA regions.

ADDRESSES: Nomination and application information can be obtained from the EPA regional offices listed on our Web site at http://www.epa.gov/owm/mtb/intnet.htm.

FOR FURTHER INFORMATION CONTACT: Maria E. Campbell, Telephone: (202) 564-0628. Facsimile Number: (202) 501-2396. E-mail: campbell.maria@epa.gov. Also visit the Office of Wastewater Management's Web page at http://www.epa.gov/owm.

SUPPLEMENTARY INFORMATION: Clean Water Act Section 501(a) and (e), and 33 U.S.C. 1361(a) and (e) authorizes the Recognition Awards program. Nominations and applications for the national award must be recommended by EPA regions. EPA regulations are contained at 40 CFR part 105.

Dated: April 5, 2005.
James A. Hanlon,
Director, Office of Wastewater Management.

[FR Doc. 05-7220 Filed 4-8-05; 8:45 am]

BILLING CODE 6560-50-P